DEPARTMENT OF ENERGY

Agency Information Collection Extension

AGENCY: Department of Energy.

ACTION: Submission for Office of Management and Budget (OMB) review; comment request.

SUMMARY: The Department of Energy (DOE) has submitted an information collection request to the OMB for extension under the provisions of the Paperwork Reduction Act of 1995. The information collection requests a three-year extension of its Exchange/Sale Report, Excess Personal Property Furnished to Non-Federal Recipients, Agency Report of Motor Vehicle Data, Annual Motor Vehicle Fleet Report, OMB Control Number 1910-1000. This information collection request covers information necessary to prepare and submit annual property reports required by 41 CFR part 102 and the Office of Management and Budget.

DATES: Comments regarding this collection must be received on or before July 26, 2013. If you anticipate that you will be submitting comments, but find it difficult to do so within the period of time allowed by this notice, please advise the OMB Desk Officer of your intention to make a submission as soon as possible. The Desk Officer may be telephoned at 202-395-4650.

ADDRESSES: Written comments should be sent to the:

DOE Desk Officer, Office of Information and Regulatory Affairs, Office of Management and Budget, New Executive Office Building, Room 10102, 735 17th Street NW., Washington, DC 20503,

and to:

Sarah Ball, Director, Personal Property Policy Division, MA-653/L'Enfant Plaza Building, U. S. Department of Energy, Washington, DC 20585-1615, sarah.ball@hq.doe.gov.

FOR FURTHER INFORMATION CONTACT: Sarah Ball, at the above address, or by telephone at (202) 287-1563, or by fax at (202) 287-1656.

Information for the Excess Personal Property Furnished to Non-Federal Recipients and the Exchange/Sale Report is collected using GSA's Personal Property Reporting Tool and can be found at the following link: https://gsa.inl.gov/property/.

Information for the Agency Report for Motor Vehicle Data and the Annual Motor Vehicle Fleet Report is collected using the Federal Automotive Statistical Tool and can be found at the following link: https://fastweb.inel.gov/.

SUPPLEMENTARY INFORMATION: This information collection request contains: (1) OMB No. 1910-1000. (2) Information Collection Request Title: Exchange/Sale Report, Excess Personal Property Furnished to Non-Federal Recipients, Agency Report of Motor Vehicle Data, Annual Motor Vehicle Fleet Report. (3) Type of Request: Renewal. (4) Purpose: The information being collected is data required in order to submit annual personal property reports as required by 41 CFR part 102 and the Office of Management and Budget. Respondents to this information collection request will be the Department of Energy's Management and Operating Contractor and other major site contractors. (5) Annual Estimated Number of Respondents: 176. (6) Annual Estimated Number of Total Responses: 176. (7) Annual Estimated Total Burden Hours: 2552. (8) Annual Estimated Reporting and Recordkeeping Cost Burden: 0.

Authority: 41 CFR 102-39.75, 41 CFR 102-36.295 and 41 CFR 102-36.300, 41 CFR 102-34.335, OMB Circular A-11 Section 25.5.

Issued in Washington, DC on June 19, 2013.
Carmelo Melendez,
Senior Real Property Officer and Director Office of Property, Department of Energy.

[FR Doc. 2013-15257 Filed 6-25-13; 8:45 am]

BILLING CODE 6450-01-P